DEPARTMENT OF THE INTERIOR

Bureau of Land Management

[AK-040-00-1410; AA-81911]

Realty Action; Airport Lease, Near Cairn Mountain/Sparrevohn

AGENCY: Bureau of Land Management, Interior.

ACTION: Notice of Realty Action, Lease of Public Land.

SUMMARY: Mr. and Mrs. Gary Pogany (Applicants) have submitted an application for an airport lease on public land pursuant to the Act of May 24, 1928, as amended (49 U.S.C. appendix, 211-213) and regulations at 43 CFR part 2911. The leased land would be used to increase the safety of people flying into Osprey Lodge, which is owned and operated by Mr. and Mrs. Gary Pogany. The description of the land is as follows:

T. 12 N., R. 34 W., Section 16, SE¼,

Containing approximately 3.4 acres.

SUPPLEMENTARY INFORMATION: This Notice of Realty Action proposes to lease public land that borders the Applicant's private land to extend an existing air strip for safety purposes.

The applicants have provided a letter of concurrence with the proposal from the Federal Aviation Administration.

The lease will be offered to the Applicants for a term of 20 years. Payment of rent to the United States will be required at no less than fair market value.

DATES: Interested parties may submit comments on or before June 5, 2000, to the Field Manager, Anchorage Field Office, 6881 Abbott Loop Road, Anchorage, Alaska 99507-2599. In the absence of a timely objection, this proposal shall become the final decision of the Department of the Interior.

FOR FURTHER INFORMATION CONTACT: Karen Collie, Anchorage Field Office, Bureau of Land Management, 6881 Abbott Loop Road, Anchorage, Alaska 99507-2599; (907) 267-1244 or (800) 478-1263.

Clinton Hanson,
Acting Field Manager.

[FR Doc. 00-9950 Filed 4-20-00; 8:45 am]

BILLING CODE 4310-JA-P